DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5 P.M. in Room 4211, U.S. Department of Commerce, 14th Street and Constitution Avenue, NW., Washington, DC.

Docket Number: 01-015. Applicant: The Research Foundation of State University of New York, P. O. Box 9, Albany, NY 12201-0009. Instrument: XY Shifting Table and Accessories. Manufacturer: Luigs & Neumann, Germany. Intended Use: The instrument is intended to be used for the study of the electrical activity of single nerve cells in a brain circuit in physiological conditions and in experimental conditions that mimic brain diseases like epilepsy. Application accepted by Commissioner of Customs: July 14, 2001.

Docket Number: 01-016. Applicant: Yale University, Traffic Department, 155 Whitney Avenue, P.O. Box 208202, New Haven, CT 06520-8202. Instrument: (2) High Pressure Presses, Models TRY10ES and Drickamer Cell. Manufacturer: Okaya & Co., Ltd., Japan. Intended Use: The instrument is intended to be used for studies of minerals and rocks (dense silicate minerals such as olivine, wadsleyite, ringwoodite and akimomoite) in the Earth's interior. Application accepted by Commissioner of Customs: July 19, 2001.

Gerald A. Zerdy,
Program Manager, Statutory Import Programs Staff.

[FR Doc. 01-19050 Filed 7-30-01; 8:45 am]

BILLING CODE 3510-DS-P